NUCLEAR REGULATORY COMMISSION

[NRC-2019-0061]

Seismic Qualification of Electrical and Active Mechanical Equipment and Functional Qualification of Active Mechanical Equipment for Nuclear Power Plants

AGENCY: Nuclear Regulatory Commission.

ACTION: Regulatory guide; issuance.

SUMMARY: The U.S. Nuclear Regulatory Commission (NRC) is issuing Revision 4 to Regulatory Guide (RG) 1.100, “Seismic Qualification of Electrical and Active Mechanical Equipment and Functional Qualification of Active Mechanical Equipment for Nuclear Power Plants.” RG 1.100 was revised to endorse industry consensus standards with certain exceptions and clarifications. The guide describes methods that the staff of the NRC considers acceptable for use in the seismic qualification of electrical and active mechanical equipment and the functional qualification of active mechanical equipment for nuclear power plants.

DATES: Revision 4 to RG 1.100 is available on June 2, 2020.

ADDRESSES: Please refer to Docket ID NRC-2019-0100 when contacting the NRC about the availability of information regarding this document. You may obtain publicly-available information related to this document using any of the following methods:

• Federal Rulemaking Website: Go to https://www.regulations.gov and search for Docket ID NRC-2019-0100. Address questions about NRC dockets IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

Revision 4 to RG 1.100 and the regulatory analysis may be found in NRC's ADAMS under Accession Nos. ML19312C677 and ML18093A676, respectively.

Regulatory guides are not copyrighted, and NRC approval is not required to reproduce them.

FOR FURTHER INFORMATION CONTACT: Ian Tseng, Office of Nuclear Reactor Regulation, telephone: 301-415-7964, email: Ian.Tseng@nrc.gov, and Edward O'Donnell, Office of Nuclear Regulatory Research, telephone: 301-415-3317, email: Edward.Odonnell@nrc.gov. Both are staff members of the U.S. Nuclear Regulatory Commission, Washington, DC 20555-0001.

SUPPLEMENTARY INFORMATION:

I. Discussion

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 4 of RG 1.100 was issued with a temporary identification of Draft Regulatory Guide, DG-1328. The guide was revised to endorse, with exceptions and clarifications the following industry consensus standards: (1) Institute of Electrical and Electronics Engineers (IEEE) Standard (Std) 344-2013, “IEEE Standard for Seismic Qualification of Equipment for Nuclear Power Generating Stations,” (2) IEEE Std C37.98-2013, “Standard Qualification Testing of Protective Relays and Auxiliaries for Nuclear Facilities,” and (3) American Society of Mechanical Engineers (ASME) QME-1-2017, “Qualification of Active Mechanical Equipment Used in Nuclear Facilities.”

II. Additional Information

The NRC published a notice of the availability of DG-1328 in the Federal Register on February 27, 2019 (84 FR 6444) for a 60-day public comment period. The public comment period closed on April 29, 2019. Public comments on DG-1328 and the staff responses to the public comments are available in ADAMS under Accession No. ML19312C678.

III. Congressional Review Act

This RG is a rule as defined in the Congressional Review Act (5 U.S.C. 801-808). However, the Office of Management and Budget has not found it to be a major rule as defined in the Congressional Review Act.

IV. Backfitting, Forward Fitting, and Issue Finality

Issuance of this regulatory guide does not constitute backfitting as defined in title 10 of the Code of Federal Regulations (10 CFR) section 50.109, “Backfitting,” and as described in NRC Management Directive 8.4, “Management of Backfitting, Forward Fitting, Issue Finality, and Information Requests”; constitute forward fitting as that term is defined and described in Management Directive 8.4; or affect issue finality of any approval issued under 10 CFR part 52, “Licenses, Certificates, and Approvals for Nuclear Power Plants.” As explained in this regulatory guide, applicants and licensees are not required to comply with the positions set forth in this regulatory guide.

Dated: May 27, 2020.
For the Nuclear Regulatory Commission.
Harriet Karagiannis,
Acting Chief, Regulatory Guidance and Generic Issues Branch, Division of Engineering, Office of Nuclear Regulatory Research.

[FR Doc. 2020-11759 Filed 6-1-20; 8:45 am]

BILLING CODE 7590-01-P